DEPARTMENT OF EDUCATION

[Docket No.: ED-2023-SCC-0169]

Agency Information Collection Activities; Comment Request; Comprehensive Literacy State Development Annual Performance Report

AGENCY: Office of Elementary and Secondary Education (OESE), Department of Education (ED).

ACTION: Notice.

SUMMARY: In accordance with the Paperwork Reduction Act (PRA) of 1995, the Department is proposing a new information collection request (ICR).

DATES: Interested persons are invited to submit comments on or before November 27, 2023.

ADDRESSES: To access and review all the documents related to the information collection listed in this notice, please use http://www.regulations.gov by searching the Docket ID number ED-2023-SCC-0169. Comments submitted in response to this notice should be submitted electronically through the Federal eRulemaking Portal at http://www.regulations.gov by selecting the Docket ID number or via postal mail, commercial delivery, or hand delivery. If the regulations.gov site is not available to the public for any reason, the Department will temporarily accept comments at ICDocketMgr@ed.gov. Please include the docket ID number and the title of the information collection request when requesting documents or submitting comments. Please note that comments submitted after the comment period will not be accepted. Written requests for information or comments submitted by postal mail or delivery should be addressed to the Manager of the Strategic Collections and Clearance Governance and Strategy Division, U.S. Department of Education, 400 Maryland Ave. SW, LBJ, Room 6W203, Washington, DC 20202-8240.

FOR FURTHER INFORMATION CONTACT: For specific questions related to collection activities, please contact Michael Berry, (202) 453-7088.

SUPPLEMENTARY INFORMATION: The Department, in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. The Department is soliciting comments on the proposed information collection request (ICR) that is described below. The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: CSLD Annual Performance Report.

OMB Control Number: 1810-NEW.

Type of Review: New ICR.

Respondents/Affected Public: State, local, and Tribal governments.

Total Estimated Number of Annual Responses: 58.

Total Estimated Number of Annual Burden Hours: 638.

Abstract: The Comprehensive Literacy State Development (CLSD) program is authorized under the Elementary and Secondary Education Act of 1965, as amended (ESEA), sections 2222-2225. The CLSD program awards competitive grants to advance literacy skills—using evidence-based practices, activities, and interventions, including preliteracy skills, reading, and writing—for children from birth through grade 12, with an emphasis on disadvantaged children, including children living in poverty, English learners, and children with disabilities. Eligible entities include the state education agencies (SEAs) of the 50 states, the District of Columbia, and Puerto Rico. Additionally, directed awards are made to four (4) Outlying Areas: American Samoa, the Commonwealth of the Northern Mariana Islands, Guam, and the U.S. Virgin Islands. A portion of funds is also awarded directly to the Bureau of Indian Education.

CLSD requires that at least 95% of funds awarded to SEAs be distributed to local education agencies through a subgrant award process. However, the current OMB-approved ED generic grant performance report does not include fields to capture program (subgrantee) demographic data or performance measures to ensure grantees are meeting statutory and regulatory requirements and making progress toward meeting the goals and objectives of their approved projects. The proposed performance report metrics reflect the need to collect pertinent grantee- and subgrantee-level data that could be used to guide future program policy and practice and respond to stakeholder, congressional, and agency inquiries. Thus, the CLSD program staff would better understand whom they serve, programmatic needs, strategies to meet those needs, and how collecting program-level data would benefit the students and support their learning. The new CLSD performance report metrics would (a) collect programmatic data that demonstrate aggregate program-level impact; (b) provide subgrantees' aggregated data, such as the number of students and professionals served, how funds have been used (e.g., professional learning, curricular materials), and staffing; and (c) provide the CLSD program staff the data to report the performance and outcomes of the CLSD program, at both the grantee and the subgrantee levels. These new measures also would help to add specificity to ED's monitoring efforts.

Dated: September 21, 2023.
Kun Mullan,
PRA Coordinator, Strategic Collections and Clearance, Governance and Strategy Division, Office of Chief Data Officer, Office of Planning, Evaluation and Policy Development.

[FR Doc. 2023-20941 Filed 9-26-23; 8:45 am]

BILLING CODE 4000-01-P